DEPARTMENT OF HOMELAND SECURITY

Transportation Security Administration

Notice of Intent To Request Approval From the Office of Management and Budget (OMB) for a New Public Collection of Information; Transportation Worker Identification Credential (TWIC) National Survey

AGENCY: Transportation Security Administration (TSA), DHS.

ACTION: Notice.

SUMMARY: TSA invites public comment on the new information collection requirement abstracted below that will be submitted to OMB in compliance with the Paperwork Reduction Act.

DATES: Send your comments by June 4, 2004.

ADDRESSES: Comments may be mailed or delivered to Lolie Kull, TWIC Program Office, TSA Headquarters, East Tower, Floor 8, TSA-19, 601 South 12th Street, Arlington, VA 22202-4220.

FOR FURTHER INFORMATION CONTACT: Conrad Huygen, Office of Information Management Programs, TSA Headquarters, West Tower, Floor 4, TSA-17, 601 South 12th Street, Arlington, VA 22202-4220; telephone (571) 227-1954; facsimile (571) 227-2912.

SUPPLEMENTARY INFORMATION: In accordance with the Paperwork Reduction Act of 1995, (44 U.S.C. 3501 et seq.), an agency may not conduct or sponsor, and a person is not required to respond to a collection of information, unless it displays a valid OMB control number. Therefore, in preparation for submission of the specified information collection, TSA solicits comments in order to—

(1) Evaluate whether the proposed information requirement is necessary for the proper performance of the functions of the agency, including whether the information will have practical utility;

(2) evaluate the accuracy of the agency's estimate of the burden;

(3) enhance the quality, utility, and clarity of the information to be collected; and

(4) minimize the burden of the collection of information on those who are to respond, including through the use of appropriate automated, electronic, mechanical, or other technological collection techniques or other forms of information technology where appropriate.

Purpose of Data Collection

TSA is in the process of testing the TWIC Program concept, which, if approved, will provide for a single, uniform credential nationwide for transportation workers who require access to secure transportation areas. In the Technology Evaluation phase of the TWIC Program, TSA evaluated five card technologies in many types of physical and logical access transactions, and in the Prototype phase, it intends to evaluate a broad range of business processes as they relate to credentialing, identity, and identity management.

The information collected for the TWIC National Survey differs from these pilot programs in that it will be used as a means to develop a predictive model of the current access control technology infrastructure at transportation sites across the nation, should the TWIC be approved for implementation. The bulk of the information to be collected in the National Survey pertains to the facility (i.e., number of access points, badged population, etc.), not to individuals. This information will be used to help determine implementation approaches for the TWIC Program at transportation facilities and modes across the country that differ by type and size (e.g., aviation, rail, maritime, and pipeline).

Description of Data Collection

TSA will administer a data collection tool (e.g., interviews and/or a web-based survey) to be used at selected transportation facilities. Participation by stakeholders will be voluntary. Selection will be based on interest/willingness to participate, site size, and mode, so as to survey a representative sample of sites nationwide. The survey will have a list of questions designed to collect the following information: (a) Facility name, (b) facility access control technology and infrastructure information (e.g., number of access points, number of worker credentials issued annually, defined secure areas, etc.), (c) facility contact information (e.g., phone number and e-mail address), and (d) company, organization, or affiliation. The respondents who choose to participate in the surveys will be asked to return the completed survey within two weeks of receipt. TSA estimates a total of up to 300 respondents and, based on an estimated two-hour burden per respondent, a maximum program-wide burden of approximately 600 hours.

TSA intends to collect data via the following instruments:

(1) Site Surveys. TSA intends to conduct site surveys at transportation sites nationwide. The surveys will be administered using an interview methodology, in which the TSA representative will ask site Security Directors, or their designee, questions pertaining to the site's access control technology infrastructure. While at the site, the TSA representative will also tour the facility to gain a thorough understanding of the site's layout.

(2) Web-based Survey. After a thorough understanding of site infrastructures is gained through site surveys, the National Survey will be available as a web-based survey to selected sites. These surveys will be filled out by site Security Directors, or their designee, and be retrieved by a TSA representative. The results of these surveys will serve to further contribute to the data that will be analyzed to develop the predictive model.

Use of Results

The targeted outcome of this data collection will be used to create a predictive model that will aid the TWIC Program in determining the level of effort and capital investment needed to implement the TWIC Program at sites based on their respective site-specific information.

Issued in Arlington, Virginia, on March 26, 2004.
Susan T. Tracey,
Chief Administrative Officer.

[FR Doc. 04-7619 Filed 4-2-04; 8:45 am]

BILLING CODE 4910-62-P